DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 68 FR 7118-7123, dated February 12, 2003) is amended to reorganize the National Center for HIV, STD, and TB Prevention.

Section C-B, Organization and Functions, is hereby amended as follows:

Delete in its entirety the functional statement for the Resource Management Office and insert the following:

Financial and Administrative Services Office (CK12). The mission of the Financial and Administrative Services Office (FASO) in the Office of the Director in the National Center for HIV, STD, and TB Prevention (NCHSTP) is to centralize and facilitate the financial and administrative duties required to manage NCHSTP. In carrying out this mission, the Financial and Administrative Services Office: (1) Plans, coordinates, and provides administrative and management advice and guidance for NCHSTP; (2) provides and coordinates Center-wide administrative, management, and support services in the areas of fiscal management, personnel, travel, procurement, facility management, and other administrative services; (3) coordinates NCHSTP requirements relating to small purchase procurements, VISA procurements, materiel management, and intra-agency agreements/reimbursable agreements; (4) provides lead fiscal management for contracts and supportive fiscal management for grants and cooperative agreements; (5) serves as a liaison for external inquiries of current fiscal year funding expenditures; (6) coordinates facility management issues, problems and changes, physical security issues, and policies regarding telecommunications, office furniture and equipment; (7) provides oversight and management of NCHSTP conference rooms, support and setup of Envision services and assistance with audio-visual equipment; (8) provides meeting planning assistance and services, serves as Project Officer and liaison for any meeting planning contractors, negotiates with vendors for providing conference location, rental of equipment; (9) maintains liaison with CIOs, Staff Offices, Staff Service Offices, and NCHSTP staff. (10) Serves as an initial point of contact between partners and NCHSTP programs; (11) provides guidance and coordination to Divisions on cross-divisional negotiated agreements; (12) facilitates NCHSTP shifts to the administration of non-categorical, cross-cutting grants/cooperative agreements; (13) facilitates state and local cross-divisional issues identification and solutions; (14) advocates for consistent and judicious interpretation and application of established Center-level policy related to cross-divisional issues and field staff management; (15) facilitates and provides consultation on field staff human resource management issues; (16) advocates the use of information technology to strengthen the communications among the divisions, field staff, and partners; (17) develops, reviews, and implements policies, methods, and procedures for NCHSTP extramural assistance programs; (18) provides financial tracking for Center-wide extramural grants and cooperative agreements; (19) provides consultation and technical assistance to NCHSTP program officials in the planning, implementation, and administration of assistance programs; (20) participates in evaluation of project resources and the resolution of audit exceptions; (21) develops and implements objective review processes, including use of special emphasis panels, for competitive application cycles; (22) assures Center-wide consistency in providing review of continuation assistance applications; (23) interprets general policy directives, proposed legislation, and appropriations language for implications on extramural programs; (24) provides Center-wide management training to supervisors, managers and team leaders; (25) facilitates international training through short-term TDYs with international programs; (26) through short-term TDYs provides technical assistance to CDC's international program; (27) provides developmental training to NCHSTP's field staff; and (28) provides liaison with OPS and OD staff offices.

Delete in its entirety the functional statement for the Prevention Support Office (CK16).

After the Planning and Evaluation Office (CK15), insert the following:

Office of Health Disparities (CK17). The mission of the Office of Health Disparities (OHD) in the Office of the Director in the National Center for HIV, STD, and TB Prevention (NCHSTP) is to improve the health of populations disproportionately affected by HIV, STDs, TB and other related diseases and conditions and ultimately to eliminate health disparities. These populations include racial and ethnic minorities, women, persons incarcerated in the correctional system, and other persons disproportionately affected by these conditions. In carrying out this mission, the Office of Health Disparities: (1) Coordinates and tracks health disparity activities within the center; (2) collaborates with the CDC Office of the Director and other CIOs on health disparity activities; (3) develops partnerships with other federal agencies and nongovernmental organizations working on similarly-affected populations; (4) supports research, surveillance, education, training, and program development to reduce health disparities; (5) provides project management, technical support and funding to the Tuskegee University National Center for Bioethics in Research and Health Care; (6) manages the Tuskegee Participants Health Benefits Program; (7) promotes and facilitates collaboration of state and local health department and corresponding correctional systems to build strong systems for screening, testing, surveillance, prevention education, and continuity of care for HIV, STDs, TB, and related conditions for persons incarcerated in correctional systems; (8) sponsors workgroups, meetings, and conferences related to health disparities; (9) promotes a diverse public health workforce through internships, fellowships, training programs, and other activities; (10) works with the CDC Office of Minority Health to monitor progress in meeting the four Executive Orders related to improving minority health.

Dated: June 3, 2003.
William H. Gimson,
Chief Operating Officer, Centers for Disease Control and Prevention (CDC).

[FR Doc. 03-15837 Filed 6-23-03; 8:45 am]

BILLING CODE 4160-18-M